DEPARTMENT OF THE INTERIOR

National Park Service

[NPS-WASO-NAGPRA-NPS0038204; PPWOCRADN0-PCU00RP14.R50000]

Notice of Intended Repatriation: University of California, Davis, Davis, CA

AGENCY: National Park Service, Interior.

ACTION: Notice.

SUMMARY: In accordance with the Native American Graves Protection and Repatriation Act (NAGPRA), the University of California, Davis (UC Davis) intends to repatriate certain cultural items that meet the definition of sacred objects and objects of cultural patrimony and that have a cultural affiliation with the Indian Tribes or Native Hawaiian organizations in this notice.

DATES: Repatriation of the cultural items in this notice may occur on or after July 31, 2024.

ADDRESSES: Megon Noble, NAGPRA Project Manager, University of California, Davis, 412 Mrak Hall, One Shields Avenue, Davis, CA 95616, telephone (530) 752-8501, email mnoble@ucdavis.edu.

SUPPLEMENTARY INFORMATION: This notice is published as part of the National Park Service's administrative responsibilities under NAGPRA. The determinations in this notice are the sole responsibility of UC Davis, and additional information on the determinations in this notice, including the results of consultation, can be found in the summary or related records. The National Park Service is not responsible for the determinations in this notice.

Abstract of Information Available

A total of 32 cultural items have been requested for repatriation. The 32 sacred objects/objects of cultural patrimony are baskets. The University is unaware of any treatment of the sacred objects/objects of cultural patrimony with pesticides, preservatives, or other substances that represent a potential hazard to the objects or to persons handling the objects.

There are four baskets (CHM-362, 363, 364, 365) that were purchased by C. Hart Merriam in 1900 from near the Klamath River. There are eight baskets (CHM-353, 354, 355, 356, 357, 358, 359, 360) where the date and circumstances of C. Hart Merriam's acquisition is unknown. Original documentation indicated the items are from the Lower Klamath River. There are six baskets (CHM-1151, 1152, 1201, 1202, 1203, 1205) where the date and circumstances C. Hart Merriam's acquisition is unknown. Larry Dawson (UC Berkeley lecturer c.1980s) attributed these baskets as Yurok or Karuk. There are 10 baskets (CHM-342, 343, 344, 345, 346, 347, 348, 349, 350, 352) which were purchased by C. Hart Merriam in 1910 from an unnamed Yurok woman near “Requa, Klamath mouth” in Del Norte County. Three baskets (CHM-339, 340, 341) were purchased by C. Hart Merriam in 1921 from an unnamed woman near “Stone Lagoon in Humboldt County. One basket (CHM-361) was purchased by C. Hart Merriam in 1901 in San Francisco. Merriam attributed this item to the Yurok near Klamath River.

Determinations

The UC Davis has determined that:

• The 32 sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a reasonable connection between the cultural items described in this notice and the Resighini Rancheria, California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after July 31, 2024. If competing requests for repatriation are received, the UC Davis must determine the most appropriate requestor prior to repatriation. Requests for joint repatriation of the cultural items are considered a single request and not competing requests. The UC Davis is responsible for sending a copy of this notice to the Indian Tribes and Native Hawaiian organizations identified in this notice and to any other consulting parties.

Authority: Native American Graves Protection and Repatriation Act, 25 U.S.C. 3004 and the implementing regulations, 43 CFR 10.9.

Dated: June 24, 2024.
Melanie O'Brien,
Manager, National NAGPRA Program.

[FR Doc. 2024-14471 Filed 6-28-24; 8:45 am]

BILLING CODE 4312-52-P